DEPARTMENT OF DEFENSE

Department of the Air Force

[Docket ID USAF-2011-0027]

Proposed Collection; Comment Request

AGENCY: Department of the Air Force, Department of Defense,

ACTION: Notice.

SUMMARY: In compliance with Section 3506(c)(2)(A) of the Paperwork Reduction Act of 1995, the Department of the Air Force announces a proposed new public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by January 30, 2012.

ADDRESSES: You may submit comments, identified by docket number and title, by any of the following methods:

• Federal eRulemaking Portal: http://www.regulations.gov. Follow the instructions for submitting comments.

• Mail: Federal Docket Management System Office, 4800 Mark Center Drive, East Tower, 2nd Floor, Suite 02G09, Alexandria, VA 22350-3100.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: To request more information on this proposed information collection or to obtain a copy of the proposal and associated collection instruments, please write to: Cadet Summer Research Program (CSRP) Director, USAF Academy, Attn: Captain Andrew Radzicki, 2354 Fairchild Dr. Suite 6L-121, USAF Academy, CO 80840, or call the CSRP director at (719) 333-2889, DSN: 333.2889

Title, Associated Form, and OMB Number: Cadet Summer Research Program Exit Survey; No Associated Form; OMB Control Number 0701-TBD.

Needs and Uses: The Cadet Summer Research Program (CSRP) annually matches approximately 180 of the U.S. Air Force Academy's (USAFA's) top academic cadets with research projects proposed and funded by roughly 100 Air Force, DOD, Federal, and non-Federal (corporate, state, non-profit) organizations around the world. (a) This annual survey formalizes the feedback process to facilitate structured program improvement and systematic relationship maintenance. (b) Without a systematic feedback process, information or recommendations from the myriad of organizations is extremely difficult to maintain. If this information is lost or ignored, USAFA runs the risk of losing program sponsors or missing valuable suggestions for lowering program cost or increasing benefit for cadet or sponsor participants. To achieve this objective without the formal survey, individual department representatives solicit, record, and report sponsor and cadet feedback individually. This process is extremely expensive and less than optimal. Without the survey, feedback is more random, non-standard, and subjective. (c) The requested survey information is not readily available via other sources. (d) No known alternatives are less costly. (e) Information obtained via requested survey instrument will be reported to USAFA leadership and used to develop and implement program/process improvements. The impact of program/process adjustments can be assessed on an annual basis. (f) Recommended frequency of assessment is once annually, since sponsors change each year.

Affected Public: Businesses or other for-profit.

Annual Burden Hours: 50

Number of Respondents: 300

Responses per Respondent: 1

Average Burden per Response: 10 minutes

Frequency: Once annually

SUPPLEMENTARY INFORMATION:

Summary of Information Collection

The Cadet Summer Research Program (CSRP) annually matches approximately 180 of the U.S. Air Force Academy's (USAFA's) top academic cadets with research projects proposed and funded by roughly 100 Air Force, DOD, Federal, and non-Federal (corporate, state, non-profit) organizations around the world. Without a systematic feedback process, information or recommendations from the myriad of organizations is extremely difficult to maintain. The information obtained via requested survey instrument will be reported to USAFA leadership and used to develop and implement program/process improvements.

Dated: November 23, 2011.
Aaron Siegel,
Alternate OSD Federal Register Liaison Officer, Department of Defense.

[FR Doc. 2011-30651 Filed 11-28-11; 8:45 am]

BILLING CODE 5001-06-P